DEPARTMENT OF ENERGY

Federal Energy Regulatory Commission

[Project No. 13350-000]

Marine Power & Water, Inc.; Notice of Preliminary Permit Application Accepted for Filing and Soliciting Comments, Motions To Intervene, and Competing Applications

May 7, 2009.

On January 6, 2009, Marine Power & Water, Inc. filed an application, pursuant to section 4(f) of the Federal Power Act, proposing to study the feasibility of the Colorado River Indian Tribes Irrigation District Hydrokinetic Power Project, located in La Paz County, Arizona. The sole purpose of a preliminary permit, if issued, is to grant the permit holder priority to file a license application during the permit term. A preliminary permit does not authorize the permit holder to perform any land disturbing activities or otherwise enter upon lands or waters owned by others without the owners' express permission.

The proposed project would be located in an irrigation canal downstream from the Parker Irrigation Diversion Dam on the Colorado River, within the Colorado River Indian Tribe Reservation, 3 miles southwest of the City of Parker, Arizona, and would consist of: (1) One hydrokinetic electrical generating unit, with a total installed capacity of 15 kilowatts, (2) an existing 200-volt primary transmission line at check 19 that interconnects with the Western Area Power Administration, and (3) appurtenant facilities. The electricity generated from the project would be used by the Colorado River Indian Tribe Reservation. The project uses no dam or impoundment.

Applicant Contact: Mr. Ray F. Hofmann, Marine Power & Water, Inc., 26893 Calle Hermosa, Capistrano Beach, California 92624, phone: (949) 481-8331.

FERC Contact: Carolyn Templeton (202) 502-8785.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13350) in the docket number field to access the document. For assistance, call toll-free 1-866-208-3372.

Kimberly D. Bose,
Secretary.

[FR Doc. E9-11334 Filed 5-14-09; 8:45 am]

BILLING CODE 6717-01-P